GENERAL SERVICES ADMINISTRATION

The Fifth National Federal Fleet Manager Workshop and Information Fair (FedFleet 2005): Keeping in Tune

AGENCY: Office of Governmentwide Policy, General Services Administration (GSA).

ACTION: Notice.

SUMMARY: The General Services Administration (GSA) will hold its fifth National Federal Fleet Manager Workshop and Information Fair (FedFleet 2005): Keeping in Tune. FedFleet 2005 will take place June 7-9, 2005 at the Gaylord Opryland Hotel and Convention Center in Nashville, Tennessee. Nearly 1,300 fleet, procurement, personal property, transportation, and travel professionals within Federal, State, and local governments, as well as the private sector will attend. The Fleet Management Review Initiative will be a major focus of FedFleet 2005. The exhibitor information fair features the industry's latest technology, vehicles, products, and services. To learn more about FedFleet 2005 and to register, visit the FedFleet 2005 Web site at http://www.fedfleet.org.

FOR FURTHER INFORMATION CONTACT Mike Moses, Office of Governmentwide Policy, at (202) 501-2507, or by e-mail to Mike.Moses@gsa.gov.

Dated: April 20, 2005.
Russell H. Pentz,
Director, Vehicle Management Policy.

[FR Doc. 05-8292 Filed 4-25-05; 8:45 am]

BILLING CODE 6820-14-S